DEPARTMENT OF THE INTERIOR

Bureau of Land Management

[CO-140-1610-DT-009C]

Notice of Availability of the Record of Decision for the Resource Management Plan Amendment for Portions of the Roan Plateau Planning Area Designated as Areas of Critical Environmental Concern Public Lands in Garfield County, CO

AGENCY: Bureau of Land Management, Interior.

ACTION: Notice of availability.

SUMMARY: In accordance with the National Environmental Policy Act (NEPA) and the Federal Land Policy and Management Act (FLPMA), the Bureau of Land Management (BLM) announces the availability of the Record of Decision (ROD), which documents the BLM's decision to designate and manage four (4) Areas of Critical Environmental Concern (ACEC) within the Roan Plateau planning area. The Roan Plateau is located within Garfield and Rio Blanco Counties and within the jurisdiction of the Glenwood Springs Field Office in Colorado. The ROD announced today pertains only to approximately 21,034 acres of proposed ACEC and does not alter final decisions for the remaining approximately 52,568 acres within the Roan Plateau planning area, which were previously addressed in the Proposed Resource Management Plan Amendment/Final Environmental Impact Statement (PRMPA/FEIS) and Record of Decision announced in the Federal Register, Volume 72, Number 111, on Monday, June 11, 2007.

ADDRESSES: Copies of both RODs for the Roan Plateau planning area and the RMPA/FEIS are available upon request from the Glenwood Springs Field Office, Bureau of Land Management, 50629 Highways 6 and 24, Glenwood Springs, CO 81601, or via the Internet at http://www.blm.gov/rmp/co/roanplateau.

FOR FURTHER INFORMATION CONTACT: Jamie Connell, Field Manager, Bureau of Land Management Glenwood Springs Field Office, 50629 Highways 6 & 24, Glenwood Springs, CO 81601, or by telephone at (970) 947-2800.

SUPPLEMENTARY INFORMATION: The Roan Plateau RMPA was developed with broad public participation through a collaborative planning process. The ROD announced today addresses the management of approximately 21,034 acres of public land in the planning area proposed for designation as ACEC in the PRMPA/FEIS. Final RMPA decisions for the remaining portions of the planning area (approximately 52,568 acres) were addressed in a ROD announced in the Federal Register, Volume 72, Number 111, on Monday, June 11, 2007. The ROD announced today includes management actions to address the values of concern identified within the 21,034 acres of proposed ACEC. The ACECs designated in this ROD were previously analyzed in the Draft RMPA/Draft EIS (DRMPA/DEIS) and the PRMPA/FEIS. No inconsistencies with State or local plans, policies, or programs were identified during the Governor's consistency review of the PRMPA/FEIS. The Secretary of the Interior offered the State of Colorado an additional 120-day period in which to further understand the final RMPA decisions before approving this ROD. That period has elapsed, and the BLM has considered the State's recommendations in preparing the ROD for the ACEC portions of the Roan Plateau planning area.

The BLM accepted and considered input from the public on ACEC values and potential designation during scoping for the RMPA/EIS, during public comment on alternative development, during the comment period on the DRMPA/DEIS, and during a 60-day comment period on ACECs announced in the Federal Register, Volume 72, Number 111, on Monday, June 11, 2007. The alternatives analyzed in the DRMPA/DEIS varied in the number and size of potential ACECs. The BLM received over 500 separate comments addressing ACEC management during this 60-day public comment period. Comment summaries and BLM's responses to comments are available at the Glenwood Springs Field Office or on the Web at http://www.blm.gov/rmp/co/roanplateau/index.htm.

Input from the public and cooperating agencies was considered in developing the PRMPA/FEIS. Approval of the ROD constitutes formal designation of the proposed ACECs per 43 CFR 1610.7-2(b). The four designated ACECs and their associated relevant and important resource values are as follows: (1) Anvil Points (4,955 acres)—visual resources/aesthetics, wildlife habitat, botanical/ecological values; (2) Magpie Gulch (4,698 acres)—visual resources/aesthetics, wildlife habitat, botanical/ecological values; (3) East Fork Parachute Creek (6,571 acres)—visual resources/aesthetics, wildlife habitat, fisheries habitat, botanical-ecological values; and (4) Trapper/Northwater Creek (4,810 acres)—wildlife habitat, fisheries habitat, botanical/ecological values.

Under this ROD, surface disturbing activities will be limited to protect the relevant and important values within the designated ACECs. Such activities include oil and gas development, rights-of-way designation, and road construction. Limitations include no ground disturbance or no surface occupancy stipulations for activities within the ACECs, as well as site-specific relocation or controlled surface use stipulations. Further, conditions of approval or permitting level requirements may be applied to each drilling permit. Detailed discussions of the authorized protective measures for the designated ACECs are contained in the ROD and the PRMPA/FEIS.

Anna Marie Burden,
Acting State Director.

[FR Doc. E8-6105 Filed 3-25-08; 8:45 am]

BILLING CODE 4310-JB-P